ENVIRONMENTAL PROTECTION AGENCY

40 CFR Part 60

[EPA-HQ-OAR-2010-0960; FRL-9644-1]

Notice of Availability: Draft Documents Related to the Development of Emissions Estimating Methodologies for Broiler Animal Feeding Operations and Lagoons and Basins for Swine and Dairy Animal Feeding Operations

AGENCY: Environmental Protection Agency (EPA).

ACTION: Notice of availability.

SUMMARY: The EPA is requesting public comment on draft documents titled, “Development of Emissions Estimating Methodologies for Broiler Animal Feeding Operations” and “Development of Emissions Estimating Methodologies for Lagoons and Basins at Swine and Dairy Animal Feeding Operations.” These documents contain EPA's draft emissions estimating methodologies for determining daily and annual emissions from a broiler chicken animal feeding operation and from a lagoon or basin located at a swine or dairy animal feeding operation.

DATES: Comments must be received on or before June 11, 2012.

ADDRESSES: Submit your information, identified by Docket ID Number EPA-HQ-OAR-2010-0960, by one of the following methods:

Federal eRulemaking Portal: http://www.regulations.gov: Follow the online instructions for submitting data.

Email: Send your information via electronic mail to a-and-r-docket@epa.gov, Attention Docket ID Number EPA-HQ-OAR-2010-0960.

Facsimile: Fax your comments to (202) 566-1741, Attention Docket ID Number EPA-HQ-OAR-2010-0960.

Mail: Send your information to: EPA Docket Center (EPA/DC), Environmental Protection Agency, Mail Code 6102T, 1200 Pennsylvania Ave., NW., Washington, DC 20460, Attention Docket ID Number EPA-HQ-OAR-2010-0960. Please include two copies. We request that a separate copy also be sent to the contact person identified below (see FOR FURTHER INFORMATION CONTACT).

Hand Delivery: Deliver your information to: EPA Docket Center (EPA/DC), EPA West Building, Room 3334, 1301 Constitution Ave., NW., Washington, DC 20460, Attention Docket ID Number EPA-HQ-OAR-2010-0960. Such deliveries are only accepted during the normal hours of operation (8:30 a.m. to 4:30 p.m., Monday through Friday, excluding legal holidays) and special arrangements should be made for deliveries of boxed information.

Instructions: Direct your data and information to Docket ID Number EPA-HQ-OAR-2010-0960. The EPA's policy is that all information received will be included in the public docket and may be made available online at http://www.regulations.gov, including any personal information provided, unless the submission includes information claimed to be confidential business information (CBI) or other information whose disclosure is restricted by statute. Do not submit information that you consider to be CBI, or otherwise protected, through http://www.regulations.gov or email. The http://www.regulations.gov Web site is an “anonymous access” system, which means the EPA will not know your identity or contact information unless you provide it in the body of your information. If you send an email directly to the EPA without going through http://www.regulations.gov, your email address will be automatically captured and included as part of the information that is placed in the public docket and made available on the Internet. If you submit the electronic data and information, the EPA recommends that you include your name and other contact information in the body of your information and with any disk or CD-ROM you submit. If the EPA cannot read your information due to technical difficulties and cannot contact you for clarification, the EPA may not be able to consider your information. Electronic files should avoid the use of special characters or any form of encryption and should be free of any defects or viruses.

Docket: The EPA has established a docket for this action under Docket ID Number EPA-HQ-OAR-2010-0960. All documents in the docket are listed in the http://www.regulations.gov index. Although listed in the index, some information is not publicly available, e.g., CBI or other information whose disclosure is restricted by statute. Certain other material, such as copyrighted material, will be publicly available only in hard copy form. Publicly available docket materials are available either electronically in http://www.regulations.gov or in hard copy at the EPA's Docket Center (EPA/DC), EPA West Building, Room 3334, 1301 Constitution Ave. NW., Washington, DC. The Public Reading Room is open from 8:30 a.m. to 4:30 p.m., Monday through Friday, excluding legal holidays. The telephone number for the Public Reading Room is (202) 566-1744, and the telephone number for the EPA's Docket Center is (202) 566-1742.

Submitting CBI: Do not submit information you consider to be CBI electronically through http://www.regulations.gov or email. Send or deliver information identified as CBI to only the following address: Mr. Larry Elmore, c/o Office of Air Quality Planning and Standards Document Control Officer (Room C404-02), U.S. EPA, Research Triangle Park, NC 27711, Attention Docket ID Number EPA-HQ-OAR-2010-0960. Clearly mark the part or all of the information that you claim to be CBI. For CBI information in a disk or CD-ROM that you mail to the EPA, mark the outside of the disk or CD-ROM as CBI and then identify electronically within the disk or CD-ROM the specific information that is claimed as CBI. In addition to one complete version of the information claimed as CBI, a copy of the information that does not contain the information claimed as CBI must be submitted for inclusion in the public docket. Information marked as CBI will not be disclosed except in accordance with procedures set forth in 40 CFR part 2.

If you have any questions about CBI or the procedures for claiming CBI, please consult the person identified in the FOR FURTHER INFORMATION CONTACT section.

FOR FURTHER INFORMATION CONTACT: Mr. Larry Elmore, Natural Resources Group, Sector Policies and Programs Division, (E143-03), Environmental Protection Agency, Research Triangle Park, NC 27711; telephone number: (919) 541-5433; Facsimile number: (919) 541-3470; email address: elmore.larry@epa.gov.

SUPPLEMENTARY INFORMATION: In January 2005, the EPA announced the voluntary Air Compliance Agreement (Agreement) with the animal feeding operations (AFO) industry. Under the Agreement, participating AFOs were responsible for funding the National Air Emissions Monitoring Study (NAEMS)—a 2-year study of animal confinement structures and manure storage and treatment units in the broiler chicken, egg-layer, swine and dairy industries. The study's purpose was to gather emissions data that the EPA could use to develop emissions estimating methodologies (EEMs). To provide a framework for the NAEMS, AFO industry experts, university and government scientists, and other stakeholders collaborated to develop a comprehensive monitoring plan. The study was designed to generate scientifically credible data to characterize emissions from the participating animal sectors. The NAEMS began in the summer of 2007 and consisted of 24 monitoring sites located in nine states. In addition, Tyson Foods, Inc. collected data from two broiler sites, which are also included in the NAEMS dataset. Academic researchers from various universities conducted the NAEMS study with EPA oversight. At the animal confinement sites, the study was designed to collect process and emissions data for ammonia (NH3), hydrogen sulfide (H2S), total suspended particulate matter (TSP), particulate matter with aerodynamic diameters less than 10 micrometers (PM10), PM with aerodynamic diameters less than 2.5 micrometers (PM2.5), and volatile organic compounds (VOCs). For lagoons and basins, the study was designed to collect NH3, H2S and VOCs.

In accordance with the Agreement's monitoring protocol, the EPA developed draft EEMs for animal housing structures and manure storage and treatment units using the emissions and process data collected under the NAEMS and other relevant information. Once the draft EEMs are final, the EPA expects that the AFO industry will use the EEMs to estimate daily and annual emissions for use in determining AFOs' regulatory responsibilities under the Clean Air Act, the Comprehensive Environmental Response, Compensation and Liability Act, and the Emergency Planning and Community Right-to-Know Act.

The draft documents describe the sites monitored, the statistical methodology used to analyze the data, and the EEMs.

The agency is requesting comment on the draft documents with particular emphasis on the statistical methodology used to develop the emissions estimating methodologies. Please submit comments within 90 days of the date of this notice. Electronic copies of the documents are available at www.epa.gov/airquality/agmonitoring.

On February 17, 2012, EPA's Office of Air Quality Planning and Standards sent a memorandum to the EPA Science Advisory Board Staff Office titled, “Animal Feeding Operations Air Emissions Estimating Methodologies from the National Air Emissions Monitoring Study” asking the Science Advisory Board to review and provide comments on these documents.

In response to EPA's memorandum, the EPA's Science Advisory Board has formed an expert panel to review and provide comments on these documents. The Science Advisory Board review process is an independent process. Information on submitting comments to the Science Advisory Board can be found at www.epa.gov/sab. Additional information about the Science Advisory Board process can be found at: http://yosemite.epa.gov/sab/sabproduct.nsf/0/ae6639dd6b79360e852579a4004e5529!OpenDocument. The Science Advisory Board anticipates multiple meetings of the expert panel to cover the documents in this notice.

The EPA will consider public comments received in response to this notice, public comments submitted to the Science Advisory Board, and the Science Advisory Board panel recommendations as the final emissions estimating methodologies are developed.

Dated: February 29, 2012.
Janet McCabe,
Acting Assistant Administrator.

[FR Doc. 2012-5550 Filed 3-12-12; 8:45 am]

BILLING CODE 6560-50-P